DEPARTMENT OF DEFENSE

Office of the Secretary of Defense

32 CFR Part 162

[Docket ID: DOD-2018-OS-0084]

RIN 0790-AK46

Productivity Enhancing Capital Investment (PECI)

AGENCY: Under Secretary of Defense (Personnel and Readiness), DoD.

ACTION: Final rule.

SUMMARY: This final rule removes the DoD regulation issued to explain to contractors how the Productivity Enhancing Capital Investment (PECI) program could be used by DoD components to fund projects that improve productivity. This rule implemented an Executive Order which has since been revoked. The associated internal programs were discontinued, and internal guidance was cancelled. The content of this part is obsolete.

DATES: Effective Date: This rule is effective on February 19, 2019.

FOR FURTHER INFORMATION CONTACT: Dana F. Kline, 703-695-4506, dana.f.kline.civ@mail.mil.

SUPPLEMENTARY INFORMATION: It has been determined that publication of this CFR part removal for public comment is impracticable, unnecessary, and contrary to public interest because it is based on removing obsolete information. This rule implemented Executive Order 12637, “Productivity Improvement Program for the Federal Government,” which was revoked by Executive Order 13048, “Improving Administrative Management in the Executive Branch,” on June 10, 1997. The DoD-level program was discontinued in 2010, and the corresponding internal DoD guidance was canceled. Any associated reporting was sunset thereafter. The content of the rule is obsolete and should be removed.

This rule is not significant under Executive Order (E.O.) 12866, Regulatory Planning and Review, therefore, the requirements of E.O. 13771, Reducing Regulation and Controlling Regulatory Costs do not apply.

List of Subjects in 32 CFR Part 162

Armed forces, Arms and munitions, Government contracts.

PART 162—[REMOVED]

Accordingly, by the authority of 5 U.S.C. 301, 32 CFR part 162 is removed.

Dated: February 12, 2019.
Shelly E. Finke,
Alternate OSD Federal Register Liaison Officer, DoD.

[FR Doc. 2019-02619 Filed 2-15-19; 8:45 am]

BILLING CODE 5001-06-P